DEPARTMENT OF EDUCATION

[CFDA No. 84.031H]

Office of Postsecondary Education; Strengthening Institutions (SIP), American Indian Tribally Controlled Colleges and Universities (TCCU), Alaska Native and Native Hawaiian-Serving Institutions (ANNH) and Developing Hispanic-Serving Institutions (HSI) Programs Notice Inviting Applications for Designation as Eligible Institutions To Apply for New Awards Under Title III and Title V for Fiscal Year (FY) 2007

Purpose of Programs: Under the SIP, TCCU, and ANNH programs, (Title III, Part A programs) authorized under Part A of Title III of the Higher Education Act of 1965, as amended (HEA), institutions of higher education (IHEs or institutions) are eligible to apply for grants if they meet specific statutory and regulatory eligibility requirements. Similarly, IHEs are eligible to apply for grants under the HSI program, authorized under Title V of the HEA, if they meet specific statutory and regulatory requirements. In addition, an institution that is designated as an eligible institution under those programs may also receive a waiver of certain non-Federal cost-share requirements under the Federal Supplemental Educational Opportunity Grant (FSEOG), the Federal Work Study (FWS), the Student Support Services (SSS) and the Undergraduate International Studies and Foreign Language (UISFL) programs. The FSEOG, FWS, and SSS programs are authorized under Title IV of the HEA; the UISFL program is authorized under Title VI of the HEA.

Qualified institutions may receive these waivers even if they are not recipients of grant funds under the Title III, Part A programs or the HSI program.

Special Note: To qualify as an eligible institution under the Title III, Part A programs or the HSI program, your institution must satisfy several criteria, including one related to needy student enrollment and one related to average educational and general (E&G) expenditures for a particular base year. The most recent data available for E&G expenditures are for base year 2004-2005. In order to award FY 2007 grants in a timely manner, we will use the most recent data available. Therefore, we use E&G expenditure threshold data from the base year 2004-2005. In completing your eligibility application, please use E&G expenditure data from the base year 2004-2005.

If you are designated as an eligible institution and you do not receive a new Title III or Title V award in FY 2007, your eligibility for the non-Federal cost-share waiver under the FSEOG, the FWS, the SSS, and the UISFL programs is valid for five consecutive years. You will not need to reapply for eligibility until 2012, unless you wish to apply for a new Title III or Title V grant. All institutions (including those designated as TCCU and ANNH institutions) that are not designated as eligible institutions and are interested in applying for a FY 2007 new grant or requesting a waiver of the non-Federal cost share, must apply for eligibility designation in FY 2007.

Eligible Applicants: To qualify as an eligible institution under the Title III, Part A programs or the HSI program, an accredited institution must, among other requirements, have an enrollment of needy students, and its average E&G expenditures per full-time equivalent (FTE) undergraduate student must be low in comparison with the average E&G expenditures per FTE undergraduate student of institutions that offer similar instruction.

The complete eligibility requirements for the Title III, Part A programs are found in 34 CFR 607.2 through 607.5. These regulations may be accessed at the following Web site: http://www.access.gpo.gov/nara/cfr/waisidx_02/34cfr607_02.html.

The complete eligibility requirements for the HSI program are found in 34 CFR 606.2 through 34 CFR 606.5. These regulations may be accessed at the following Web site: http://www.access.gpo.gov/nara/cfr/waisidx_01/34cfr606_01.html.

Enrollment of Needy Students: Under 34 CFR 606.3(a) and 607.3(a), an institution is considered to have an enrollment of needy students if (1) At least 50 percent of its degree students received financial assistance under one or more of the following programs: Federal Pell Grant, FSEOG, FWS, and Federal Perkins Loan programs; or (2) the percentage of its undergraduate degree students who were enrolled on at least a half-time basis and received Federal Pell Grants exceeded the median percentage of undergraduate degree students who were enrolled on at least a half-time basis and received Federal Pell Grants at comparable institutions that offered similar instruction.

To qualify under this latter criterion, an institution's Federal Pell Grant percentage for base year 2004-2005 must be more than the median for its category of comparable institutions provided in the table in this notice.

Educational and General Expenditures Per FTE Student: An institution should compare its 2004-2005 average E&G expenditures per FTE student to the average E&G expenditure per FTE student for its category of comparable institutions contained in the table in this notice. If the institution's average E&G expenditures for the 2004-2005 base year are less than the average for its category of comparable institutions, the institution meets this eligibility requirement.

An institution's average E&G expenditures are the total amount it expended during the base year for instruction, research, public service, academic support, student services, institutional support including library expenditures, operation and maintenance, scholarships and fellowships, and mandatory transfers.

The following table identifies the relevant median Federal Pell Grant percentages for the base year 2004-2005 and the relevant average E&G expenditures per FTE student for the base year 2004-2005 for the four categories of comparable institutions:

Type of institution | 2004-2005 Median Pell Grant percentage | 2004-2005 Average E&G expenditures per FTE student
2-year Public Institutions | 25.6 | $9,320
2-year Non-profit Private Institutions | 39.7 | 20,782
4-year Public Institutions | 25.8 | 23,553
4-year Non-profit Private Institutions | 26.9 | 37,105

Waiver Information: IHEs that are unable to meet the needy student enrollment requirement or the average E&G expenditures requirement may apply to the Secretary for waivers of these requirements, as described in 34 CFR 606.3(b), 606.4(c) and (d), 607.3(b), and 607.4(c) and (d). Institutions requesting a waiver of the needy student enrollment requirement or the average E&G expenditures requirement must include in their application detailed information supporting the waiver request, as described in the instructions for completing the application.

The regulations governing the Secretary's authority to waive the needy student requirement, 34 CFR 606.3(b)(2) and (3) and 607.3(b)(2) and (3), refer to “low-income” students or families. The regulations define “low-income” as an amount that does not exceed 150 percent of the amount equal to the poverty level, as established by the U.S. Bureau of the Census, 34 CFR 606.3(c) and 607.3(c).

For the purposes of this waiver provision, the following table sets forth the low-income levels for the various sizes of families:

2004 Annual Low-Income Levels
Size of family unit | Family income for the 48 contiguous states, DC, and outlying jurisdictions | Family income for Alaska | Family income for Hawaii
1 | $13,965 | $17,445 | $16,050
2 | 18,735 | 23,415 | 21,540
3 | 23,505 | 29,385 | 27,030
4 | 28,275 | 35,355 | 32,520
5 | 33,045 | 41,325 | 38,010
6 | 37,815 | 47,295 | 43,500
7 | 42,585 | 53,265 | 48,990
8 | 47,355 | 59,235 | 54,480

Note: The 2004 annual low-income levels are being used because those are the amounts that apply to the family income reported by students enrolled for the Fall 2004 semester. For family units with more than eight members, add the following amount for each additional family member: $4,770 for the contiguous 48 States, the District of Columbia and outlying jurisdictions; $5,970 for Alaska; and $5,490 for Hawaii.

The figures shown under family income represent amounts equal to 150 percent of the family income levels established by the U.S. Bureau of the Census for determining poverty status. The poverty guidelines were published by the U.S. Department of Health and Human Services in the Federal Register on February 13, 2004 (69 FR 7336).

The information about “metropolitan statistical areas” referenced in 34 CFR 606.3(b)(4) and 607.3(b)(4) may be obtained by requesting the Metropolitan Statistical Areas, 1999 publication, order number PB99-501538, from the National Technical Information Service, Document Sales, 5285 Port Royal Road, Springfield, Virginia 22161, telephone number 1-800-553-6847. There is a charge for this publication.

Applications Available: January 8, 2007.

Deadline for Transmittal of Applications: March 9, 2007 for an applicant institution that wishes to be designated as eligible to apply for a FY 2007 new grant under the Title III, Part A programs or the HSI program; and April 30, 2007 for an applicant institution that wishes to apply only for cost-sharing waivers under the FSEOG, FWS, SSS, or UISFL programs.

Electronic Submission of Applications:

Applications for designation of eligibility must be submitted electronically using the following Web site: http://webprod.cbmiweb.com/Title3and5/index.html. To enter the Web site, you must use your institution's unique 8-digit identifier, i.e., your Office of Postsecondary Education Identification Number (OPE ID number). Your business office or student financial aid office should have the OPE ID Number. If they do not, contact the Department, using the e-mail addresses of the contact persons listed in this notice under For Applications and Further Information Contact.

You will find detailed instructions for completing the application form electronically under the “eligibility 2007” link at either of the following Web sites: http://www.ed.gov/programs/iduestitle3a.index.html or http://www.ed.gov/hsi.

If your institution is unable to meet the needy student enrollment requirement or the average E&G expenditure requirement and wishes to request a waiver of one or both of those requirements, you must complete your designation application form electronically and transmit your waiver request narrative document from the following Web site: http://webprod.cbmiweb.com/Title3and5/index.html. Exception to Electronic Submission Requirement: You may qualify for an exception to the electronic submission requirement, and may submit your application in paper format, if you are unable to submit an application electronically because—

• You do not have access to the Internet; or

• You do not have the capacity to upload documents to the Web site; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Dr. Maria Carrington, U.S. Department of Education, 1990 K Street, NW., room 6033, Washington, DC 20006-8513. Fax: (202) 502-7861.

Your paper application must be submitted in accordance with the mail or hand delivery instructions described in this notice.

Submission of Paper Applications by Mail.

If you qualify for an exception to the electronic submission requirement, you may mail (through the U.S. Postal Service or a commercial carrier), your application to the Department. You must mail the application, on or before the application deadline date, to the Department at the following address:

By mail through the U.S. Postal Service or commercial carrier:Dr. Maria Carrington, U.S. Department of Education, 1990 K Street, NW., Room 6033, Washington, DC 20006-8513.

You must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

Submission of Paper Applications by Hand Delivery.

If you qualify for an exception to the electronic submission requirement, you (or a courier service) may deliver your paper application to the Department by hand. You must deliver the application, on or before the application deadline date, to the Department at the following address: Dr. Maria Carrington, U.S. Department of Education, 1990 K Street, NW., Room 6033, Washington, DC 20006-8513.

Hand delivered applications will be accepted daily between 8 a.m. and 4:30 p.m., Washington, DC time, except Saturdays, Sundays and Federal holidays.

Applicable Regulations: (a) The Education Department General Administrative Regulations in 34 CFR parts 74, 75, 77, 79, 82, 84, 85, 86, 97, 98, and 99. (b) The regulations for the Title III, Part A programs in 34 CFR part 607, and for the HSI program in 34 CFR part 606.

For Applications And Further Information Contact: Imogene Byers, Kelley Harris, or Carnisia Proctor, Institutional Development and Undergraduate Education Service, U.S. Department of Education, 1990 K Street, NW., room 6033, Request for Eligibility Designation, Washington, DC 20202-8513.

You may contact these individuals at the following e-mail addresses or phone numbers:

Imogene.Byers@ed.gov—202-502-7672.

Kelley.Harris@ed.gov—202-219-7083.

Carnisia.Proctor@ed.gov—202-502-7606.

If you use a telecommunications device for the deaf (TDD), you may call the Federal Relay Service (FRS) at 1-800-877-8339.

Individuals with disabilities may obtain this document in an alternative format (e.g., Braille, large print, audio tape, or computer diskette) on request to the contact persons listed in this section.

Individuals with disabilities may obtain a copy of the application package in an alternative format by contacting the persons listed in this section.

Electronic Access to This Document:

You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1057-1059d, 1101-1103g.

Dated: December 29, 2006.
James F. Manning,
Delegated the Authority of Assistant Secretary for Postsecondary Education.

[FR Doc. E6-22626 Filed 1-5-07; 8:45 am]

BILLING CODE 4000-01-P